INTERNATIONAL TRADE COMMISSION

[Investigation Nos. 701-TA-566 and 731-TA-1342 (Review)]

Softwood Lumber Products From Canada

Determinations

On the basis of the record ¹ developed in the subject five-year reviews, the United States International Trade Commission (“Commission”) determines, pursuant to the Tariff Act of 1930 (“the Act”), that revocation of the countervailing duty and antidumping duty orders on softwood lumber products from Canada would be likely to lead to continuation or recurrence of material injury to an industry in the United States within a reasonably foreseeable time.

¹ The record is defined in § 207.2(f) of the Commission's Rules of Practice and Procedure (19 CFR 207.2(f)).

Background

The Commission instituted these reviews on December 1, 2022 (87 FR 73778) and determined on March 6, 2023 that it would conduct full reviews (88 FR 16458, March 17, 2023). Notice of the scheduling of the Commission's reviews and of a public hearing to be held in connection therewith was given by posting copies of the notice in the Office of the Secretary, U.S. International Trade Commission, Washington, DC, and by publishing the notice in the Federal Register on April 18, 2023 (88 FR 23690). The Commission conducted its hearing on October 12, 2023. All persons who requested the opportunity were permitted to participate.

The Commission made these determinations pursuant to section 751(c) of the Act (19 U.S.C. 1675(c)). It completed and filed its determinations in these reviews on December 21, 2023. The views of the Commission are contained in USITC Publication 5479 (December 2023), entitled Softwood Lumber Products from Canada: Investigation Nos. 701-TA-566 and 731-TA-1342 (Review).

By order of the Commission.
Issued: December 21, 2023.
Lisa Barton,
Secretary to the Commission.

[FR Doc. 2023-28593 Filed 12-27-23; 8:45 am]

BILLING CODE 7020-02-P